FEDERAL MINE SAFETY AND HEALTH REVIEW COMMISSION

Sunshine Act Meetings

TIME AND DATE: 10 a.m., Thursday, March 5, 2026.

PLACE: The meeting will be held via remote means and/or in the Richard V. Backley Hearing Room, Room 511, 1331 Pennsylvania Avenue NW, Suite 504 North, Washington, DC 20004.

STATUS: Closed.

MATTERS TO BE CONSIDERED: The Commission will conduct a meeting closed to the public to consider: Cecil Matney, Jr. v. Rockwell Mining, LLC, Docket No. WEVA 2023-0126 (Issues include whether the Judge erred in sustaining a complaint, brought pursuant to 30 U.S.C. 815(c)(3), based on the operator's alleged violations of 30 CFR part 90).

Commissioners will attend the meeting. Commission staff members who provide technological support and other Commission staff may also be present as necessary. This meeting is closed to the public pursuant to 5 U.S.C. 552b(c)(10) on the basis of the Commission's consideration or disposition of a “particular case of formal agency adjudication.”

CONTACT PERSON FOR MORE INFORMATION: Rory P. Smith (202)525-8649/(202) 708-9300 for TDD Relay/1-800-877-8339 for toll free.

Phone Number for Listening to Meeting: 1-(866) 236-7472. Passcode: 678-100.

(Authority: 5 U.S.C. 552b)

Dated: February 10, 2026.
Rory P. Smith,
Attorney-Advisor.

[FR Doc. 2026-02808 Filed 2-10-26; 11:15 am]

BILLING CODE 6735-01-P